DEPARTMENT OF STATE

[Public Notice: 8100]

30-Day Notice of Proposed Information Collection: Choice of Address and Agent for Immigrant Visa Applicants

AGENCY: Department of State.

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to January 2, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Sydney Taylor, Visa Services, U.S. Department of State, 2401 E. Street NW., L-630, Washington, DC who may be reached on 202-663-3721.

SUPPLEMENTARY INFORMATION: • Title of Information Collection: Choice of Address and Agent for Immigrant Visa Applicants.

• OMB Control Number: 1405-0126.

• Type of Request: Extension of Currently Approved Collection.

• Originating Office: CA/VO/L/R.

• Form Number: DS-3032.

• Respondents: Immigrant Visa Applicants.

• Estimated Number of Respondents: 330,000.

• Estimated Number of Responses: 330,000.

• Average Time per Response: 10 minutes.

• Total Estimated Burden Time: 55,000.

• Frequency: Once per Respondent.

• Obligation to Respond: Required to Obtain Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

Form DS-3032 permits the principal applicant filing an immigrant visa application to choose an agent living in the United States who will be authorized to receive mailings relating to that application from the National Visa Center (NVC), assist in the paperwork, and pay required fees. The applicant is not required to choose an agent and may have all mailings sent to an address abroad. The applicant's file will be held at NVC until the signed form is returned. In accordance with Section 222(f) of the INA, information obtained from applicants in the immigrant visa process is considered confidential and is to be used only for the formulation, amendment, administration, or enforcement of the immigrant, nationality, and other laws of the United States.

Methodology:

Form DS-3032 is mailed to the principal applicant once the underlying immigrant visa petition has been approved by the Department of Homeland Security (DHS) and NVC has determined that the case is current and active for processing. The applicant then submits the form to NVC via mail and waits for further instructions.

Dated: November 13, 2012.
Edward J. Ramotowski,
Deputy Assistant Secretary, Bureau of Consular Affairs, Department of State.

[FR Doc. 2012-29112 Filed 11-30-12; 8:45 am]

BILLING CODE 4710-06-P